DEPARTMENT OF STATE

[Notice Number 3667]

Shipping Coordinating Committee; International Maritime Organization Legal Committee; Notice of Meetings

The Shipping Coordinating Committee (SHC) will conduct open meetings between June and October, 2001, to assist in formulating the United States position on International Maritime Organization (IMO) Legal Committee negotiations of a draft protocol to the Athens Convention Relating to the Carriage of Passengers and Their Luggage by Sea, 1974 (draft Athens protocol), and also to prepare for other items on the agenda of the eighty-third session of the Legal Committee (LEG 83). LEG 83 will meet from 8 to 12 October 2001.

The U.S. delegation to LEG 83 will consider views on issues raised by the draft Athens protocol as indicated below, but will also allow time for discussion of other topics raised at the meetings. To submit views on the draft Athens protocol in advance of the scheduled meetings, please send them either electronically to dgoettle@comdt.uscg.mil or by fax to the attention of LT Daniel J. Goettle at (202) 267-4496 or by mail to Commandant (G-LMI), U.S. Coast Guard, 2100 Second St. SW., Washington, D.C., 20593-0001, attention LT Daniel J. Goettle. Any written submissions may be posted at http://afls14.jag.af.mil/dscgi/ds.py/View/Collection-2640.Additionally, changes to the below schedule of SHC meetings will be posted on this site as well as published in the Federal Register. The current text of the draft Athens protocol can be found at: http://www.uio.no/~erikro/WWW/corrgr/index.html.

The following meeting schedule has been established to allow time for the preparation of U.S. submissions, if deemed necessary, for consideration of LEG 83. The IMO requires submissions of six or more pages to be sent no later than August 6, 2001, and submissions of less than six pages to be sent no later than September 10, 2001. Each meeting will be held at U.S. Coast Guard Headquarters, 2100 Second Street SW., Washington, DC 20593-0001. The meetings will be held in room 2415 at 10:00 a.m. The SHC meeting dates and issues for discussion are as follows:

June 14, 2001: The U.S. delegation will consider views on the draft Athens protocol liability scheme. This topic will include consideration of views on: liability of the carrier (Article 3); the performing carrier (Article 4); contributory fault (Article 6); limit of liability for personal injury (Article 7); and the loss of right to limit liability (Article 13). All article references are to the Athens Convention as modified by the draft Athens protocol.

July 10, 2001: The U.S. delegation will consider views on: the draft Athens protocol compulsory insurance provisions (Article 4bis); the time-bar (Article 16); the jurisdictional provisions (Article 17); recognition and enforcement (Article 17bis); invalidity of contractual provisions (Article 18); and other conventions on limitation of liability (Article 19).

August 7, 2001: The U.S. delegation will consider views on all other articles and any other issue raised through a written submission to the Coast Guard after July 10 or raised at this meeting.

September 11, 2001: This meeting is reserved and will be held if necessary to discuss any further views on the draft Athens protocol.

October 2, 2001: In addition to the draft Athens protocol, this meeting will consider views on the remainder of the LEG 83 agenda items. The other issues on the agenda are expected to include: development of a draft convention on wreck removal; the implementation of the International Convention on Liability and Compensation for Damage in Connection With the Carriage of Hazardous and Noxious Substances by Sea; and consideration of two draft resolutions submitted to the Legal Committee by the Joint International Maritime Organization/International Labor Organization Ad Hoc Expert Working Group on Liability and Compensation Regarding Claims for Death, Personal Injury and Abandonment of Seafarers, which met from 30 April through 4 May 2001. The first resolution provides guidelines for member states to ensure that shipowners have the financial means to cover liability for the abandonment of seafarers, and the second resolution provides such guidelines for the death or injury of seafarers.

Members of the public are invited to attend the SHC meetings up to the seating capacity of the room. For further information, please contact Captain Joseph F. Ahern or Lieutenant Daniel J. Goettle, U.S. Coast Guard, Office of Maritime and International Law (G-LMI), 2100 Second Street, SW., Washington, DC 20593-0001; telephone (202) 267-1527; fax (202) 267-4496.

Dated: May 16, 2001.
Stephen M. Miller,
Executive Secretary, Shipping Coordinating Committee, Department of State.

[FR Doc. 01-12852 Filed 5-21-01; 8:45 am]

BILLING CODE 4710-07-P